DEPARTMENT OF TRANSPORTATION

Pipeline and Hazardous Materials Safety Administration

[Docket No. PHMSA-2009-0375]

Pipeline Safety: Information Collection Activities

AGENCY: Pipeline and Hazardous Materials Safety Administration.

ACTION: Notice and request for comments.

SUMMARY: On November 24, 2009, as required by the Paperwork Reduction Act of 1995, the Pipeline and Hazardous Materials Safety Administration (PHMSA) published a notice in the Federal Register (74 FR 61403) of its intent to renew an information collection under Office of Management and Budget (OMB) Control No. 2137-0604, titled “Pipeline Integrity Management in High Consequence Areas Operators with more than 500 Miles of Hazardous Liquid Pipeline.” No comments were received. PHMSA is publishing this notice to provide the public with an additional 30 days to comment and announce that the Information Collection renewal will be submitted to the Office of Management and Budget (OMB) for approval.

DATES: Comments on this notice must be received by March 1, 2010.

ADDRESSES: Comments may be submitted to the docket identified as PHMSA-2009-0375 by any of the following methods:

• Federal eRulemaking Portal: http://www.regulations.gov. Follow the online instructions for submitting comments.

• Fax: 1-202-395-6566.

• Mail: Office of Information and Regulatory Affairs (OIRA), Office of Management and Budget (OMB), 726 Jackson Place, NW., Washington, DC 20503, Attn: Desk Officer for Department of Transportation (DOT).

• E-mail: Office of Information and Regulatory Affairs (OIRA), Office of Management and Budget, at the following address: oira_submissions@omb.eop.gov.

FOR FURTHER INFORMATION CONTACT: Cameron Satterthwaite by telephone at 202-366-1319, by fax at 202-366-4566, or by mail at U.S. Department of Transportation, Pipeline and Hazardous Materials Safety Administration, 1200 New Jersey Avenue, SE., PHP-30, Washington, DC 20590-0001.

SUPPLEMENTARY INFORMATION: Section 1320.8(d), Title 5, Code of Federal Regulations requires PHMSA to provide interested members of the public and affected agencies an opportunity to comment on information collection and recordkeeping requests. This notice identifies an information collection renewal that PHMSA will be submitting to OMB for approval. This information collection is contained in the pipeline safety regulations, 49 CFR parts 190-199. PHMSA has revised burden estimates, where appropriate, to reflect current reporting levels or adjustments based on changes in proposed or final rules published since the information collections were last approved. The following information is provided for each information collection: (1) Title of the information collection; (2) OMB control number; (3) Type of request; (4) Abstract of the information collection activity; (5) Description of affected public; (6) Estimate of total annual reporting and recordkeeping burden; and (7) Frequency of collection. PHMSA will request a three-year term of approval for each information collection activity.

PHMSA requests comments on the following information collection:

Title of Information Collection: Pipeline Integrity Management in High Consequence Areas Operators with more than 500 Miles of Hazardous Liquid Pipeline.

OMB Control Number: 2137-0604.

Type of Request: Renewal of a currently approved information collection.

Abstract: Hazardous liquid operators with pipelines in high consequence areas (i.e., commercially navigable waterways, high population areas, other populated areas, and unusually sensitive areas as defined in 49 CFR 195.450) are subject to certain information collection requirements relative to the Integrity Management Program provisions of 49 CFR 195.452. This information collection (2137-0604) covers each operator that has more than 500 miles of hazardous liquid pipelines.

Affected Public: Operators of hazardous liquid pipelines located in high consequence areas that operate more than 500 miles of pipeline.

Recordkeeping:

Estimated number of responses: 71.

Estimated annual burden hours: 57,510 hours.

Frequency of collection: Annually.

Issued in Washington, DC on January 26, 2010.
Jeffrey D. Wiese,
Associate Administrator for Pipeline Safety.

[FR Doc. 2010-1876 Filed 1-27-10; 8:45 am]

BILLING CODE 4910-60-P